DEPARTMENT OF AGRICULTURE

Agricultural Marketing Service

[Doc. No. OA17-CP-01, AMS-FV-17-0022]

Notice of Request for Extension of a Currently Approved Information Collection

AGENCY: Agricultural Marketing Service, USDA.

ACTION: Notice and request for comments.

SUMMARY: This notice announces the Agricultural Marketing Service's (AMS) intention to request approval, from the Office of Management and Budget, for an extension of the currently approved information collection request Web-Based Supply Chain Management Commodity Offer Form, Paperwork Collection Notice. This information collection is necessary to support the procurement of agricultural commodities for domestic nutrition assistance programs. AMS issues invitations to purchase fresh and processed commodities for domestic nutrition assistance programs on a year round basis. The extension of the information collection request is required to continue using our Web-Based Supply Chain Management (WBSCM) system, which allows respondents to submit information electronically. The information collection burden for respondents should not increase.

DATES: Comments on this notice must be received by May 26, 2017 to be assured of consideration.

ADDRESSES: Interested persons are invited to submit written comments concerning this notice. Comments should be submitted on the Internet at http://www.regulations.gov or to Commodity Procurement Branch, Agricultural Marketing Service, U.S. Department of Agriculture, 1400 Independence Ave. SW., S-0239, Washington, DC 20250-0239. All comments received will be posed without change, including personal information provided. All comments should reference the document number, the date and the page number of this issue of the Federal Register and will be made available for public inspection in the above office during regular business hours or at http://www.regulations.gov.

FOR FURTHER INFORMATION CONTACT: Chad Burke, Project Manager, Web Based Supply Chain Management System, at the above address, by telephone at (202) 720-4517, fax (202) 720-5871, or by email at Chad.Burke@ams.usda.gov.

SUPPLEMENTARY INFORMATION: Title: Web-Based Supply Chain Management Offer Forms.

OMB Number: 0581-0273.

Expiration Date of Approval: Three years from approval.

Type of Request: Extension of a currently approved information collection.

Abstract: AMS purchases commodities for various domestic nutrition assistance programs, and provides support for commodity markets with surplus inventory. AMS issues invitations to purchase agricultural commodities for use in domestic nutrition assistance programs. In accordance with the Paperwork Reduction Act of 1995 (44 U.S.C. Chapter 35), this information collection request is for the extension of the currently approved information collection for the WBSCM system where respondents will submit information electronically via that system. Vendor information, annual certification information, and all domestic commodity offer information will be entered and received electronically in WBSCM. Vendors will be able to access WBSCM to see the date and time the system shows for receipt of bid, bid modification, or bid cancellation information. At bid opening date and time, the bid information is evaluated through the WBSCM system. Acceptances will be sent to the successful offerors electronically. Awarded contracts will be posted on the AMS Web site.

Estimate of Burden: Public reporting burden for this collection of information is estimated to average 15 minutes per response, including the time for reviewing instructions, searching existing data sources, gathering and maintaining the data needed, and completing and reviewing the collection of information per response.

Respondents: Businesses.

Estimated Number of Respondents: 330.

Estimated Total Annual Responses: 189,892.

Estimated Number of Responses per Respondent: 575.43.

Estimated Total Annual Burden on Respondents: 48,375.76 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All comments received will be available for public inspection during regular business hours at the same address.

All responses to this notice will be summarized and included in the request for OMB approval. All comments will become a matter of public record.

Dated: March 22, 2017.
Bruce Summers,
Associate Administrator, Agricultural Marketing Service.

[FR Doc. 2017-05976 Filed 3-24-17; 8:45 am]

BILLING CODE 3410-02-P